DEPARTMENT OF ENERGY

Federal Energy Regulatory Commission

[Project No. 2724-023]

City of Hamilton, OH; Notice of Meeting

September 14, 2000.

A meeting will be convened by staff of the Office of Energy Projects on October 3, 2000, at 3 p.m. at the Federal Energy Regulatory Commission, located at 888 First Street, NE., Washington, DC. The purpose of this meeting is to discuss staff's August 11, 2000, additional information request on the relicense application for the City of Hamilton, Ohio Hydroelectric Project.

Any person wishing to attend or needing additional information should contact Nicholas Jayjack at (202) 219-2825 or e-mail at nicholas.jayjack@ferc.fed.us. Please notify Mr. Jayjack by September 27, 2000, if you plan to attend.

Linwood A. Watson, Jr.,
Acting Secretary.

[FR Doc. 00-24094 Filed 9-19-00; 8:45 am]

BILLING CODE 6717-01-M